NUCLEAR REGULATORY COMMISSION

[NRC-2009-0187]

Notice of Availability of Draft Environmental Impact Statement and Public Meeting for the AREVA Enrichment Services, LLC Proposed Eagle Rock Uranium Enrichment Facility

AGENCY: Nuclear Regulatory Commission.

ACTION: Notice of Availability of Draft Environmental Impact Statement; Correction.

SUMMARY: This document corrects a notice appearing in the Federal Register on July 21, 2010 (75 FR 42466), that announced the availability of the Draft Environmental Impact Statement (EIS) and Public Meeting for the AREVA Enrichment Services LLC Proposed Eagle Rock Uranium Enrichment Facility. This action is necessary to correct the phone number that the public could call to: (a) Register for providing oral comments on the Draft EIS at the public meeting; and (b) request special equipment or accommodations that are needed to attend or present information at the public meeting.

FOR FURTHER INFORMATION CONTACT: Mr. Stephen Lemont, Senior Project Manager, Office of Federal and State Materials and Environmental Management Program, via telephone at (301) 415-5163, or via e-mail at Stephen.Lemont@nrc.gov.

SUPPLEMENTARY INFORMATION: On page 42467, in the first column, line 67, and in the second column, line 14, the phone number is corrected to read: (800) 368-5642.

Dated at Rockville, Maryland, this 22nd day of July 2010.
For the Nuclear Regulatory Commission.
David Skeen,
Acting Deputy Director, Environmental Protection and Performance Assessment Directorate, Division of Waste Management and Environmental Protection, Office of Federal and State Materials and Environmental Management Programs.

[FR Doc. 2010-18512 Filed 7-27-10; 8:45 am]

BILLING CODE 7590-01-P